SECURITIES AND EXCHANGE COMMISSION

[File No. 500-1]

Pathways Group, Inc. (n/k/a Bicoastal Communications, Inc.); Order of Suspension of Trading

January 12, 2007.

It appears to the Securities and Exchange Commission that there is a lack of current and accurate information concerning the securities of Pathways Group, Inc. (n/k/a Bicoastal Communications, Inc.) because it has not filed any periodic reports since the period ended September 30, 2000.

The Commission is of the opinion that the public interest and the protection of investors require a suspension of trading in the securities of the above-listed company.

Therefore, it is ordered, pursuant to Section 12(k) of the Securities Exchange Act of 1934, that trading in securities of the above-listed company is suspended for the period from 9:30 a.m. EST on January 12, 2007, through 11:59 p.m. EST on January 26, 2007.

By the Commission.
J. Lynn Taylor,
Assistant Secretary.

[FR Doc. 07-159 Filed 1-12-07; 11:25 am]

BILLING CODE 8011-01-P